DEPARTMENT OF THE INTERIOR

National Park Service

National Register of Historic Places; Notification of Pending Nominations and Related Actions

Nominations for the following properties being considered for listing or related actions in the National Register were received by the National Park Service before April 10, 2010. Pursuant to section 60.13 of 36 CFR Part 60 written comments are being accepted concerning the significance of the nominated properties under the National Register criteria for evaluation. Comments are also being accepted on the following properties being considered for removal pursuant to 36 CFR 60.15. Comments may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by May 25, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Calhoun County

Downtown Anniston Historic District (Boundary Increase), Bounded by Wilmer & Walnut Aves., W. 9th & 14th Sts., Anniston, 10000270

Colbert County

Sheffield Downtown Commercial Historic District, 1st & 5th Sts., Pittsburgh & Columbia Aves., Sheffield, 10000271

CONNECTICUT

Windham County

Butts Bridge, Butts Bridge Rd. over Quinebaug R., Canterbury, 10000272

GEORGIA

Chatham County

Carbo House, The, 9 Tybrisa St., Tybee Island, 10000273

Coffee County

Eleventh District A & M School—South Georgia College Historic District, Roughly bounded by College Park Dr., Brooks & Tiger Rds., Douglas, 10000274

IOWA

Hardin County

Hardin County Home Historic District, 28483 Cty. Rd. D41, Eldora, 10000275

Palo Alto County

First Presbyterian Church, 101 1st Ave. SW., West Bend, 10000276

MISSOURI

Pettis County

Sedalia Commercial Historic District (Boundary Increase), 700-712 S. Ohio, 200 S. Moniteau, 101-108 W. Pacific, 104-220 W. Main, 208-400 W. 2nd, 200 W. 4th, 102-120 E. 5th., Sedalia, 10000277

OHIO

Lorain County

Wilson—Falkner—Baldauf House, 3260 Center Rd., Avon, 10000278

Stark County

Saint Joseph's Roman Catholic Church, 322 3rd St. SE., Massillon, 10000279

Summit County

Gothic Building, The, 102 S. High St. & 52-58 E. Mill St., Akron, 10000280

OREGON

Coos County

Egyptian Theatre, 229 S. Broadway, Coos Bay, 10000281

VIRGINIA

Martinsville Independent City

Martinsville Novelty Corporation Factory, 900 Rives Rd., Martinsville (Independent City), 10000282

Newport News Independent City

Noland Company Building, 2600 Warwick Blvd., Newport News (Independent City), 10000283

A request for REMOVAL has been made for the following property:

OREGON

Multnomah County

Mills, Lewis H., House 1350 S.W. Military Rd., Portland, 97000135

[FR Doc. 2010-10937 Filed 5-7-10; 8:45 am]

BILLING CODE P